DEPARTMENT OF ENERGY

Federal Energy Regulatory Commission

[Docket Nos. RTO1-88-000, RTO1-88-001and RTO1-88-003]

Alliance Regional Transmission Organization Stakeholder Advisory Process; Notice of Conference Regarding Stakeholder Advisory Process

August 9, 2001.

On July 30, 2001, the Michigan Public Service Commission, Indiana Utility Regulatory Commission, Illinois Commerce Commission, Public Utilities Commission of Ohio, Kentucky Public Service Commission, Pennsylvania Public Utility Commission, and West Virginia Public Service Commission requested the assistance of the Commission's Dispute Resolution Service in developing an acceptable stakeholder advisory committee structure and process for the Alliance RTO. On July 31, the Virginia State Corporation Commission file a letter joining the request for a conference. On August 2, 2001, ten stakeholders supported the state commissions' request. On August 6, 2001, the representatives for the Alliance Companies requested the assistance of the Dispute Resolution Service in the development of the Alliance stakeholder process.

Accordingly, the Commission's Dispute Resolution Service will facilitate a conference to develop an Alliance stakeholders' advisory process. The conference will be held on August 14, 2001, at 10:00 a.m., at the location of the Marriot Hotel located at the Cleveland, Ohio Airport, 4277 West 150th Street.

All interested parties in the above-dockets are requested to attend the conference. If a party has any questions respecting the conference, please call Richard Miles, the Director of the Dispute Resolution Service. His telephone number is 1 877 FERC ADR (337-2237) or 202-208-0702 and his e-mail address is richard.miles@ferc.fed.us.

Linwood A. Watson, Jr.,
Acting Secretary.

[FR Doc. 01-20494 Filed 8-14-01; 8:45 am]

BILLING CODE 6717-01-P